DEPARTMENT OF AGRICULTURE

Food Safety and Inspection Service

[Docket No. FSIS-2012-0017]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2011, to May 31, 2012, and June 1, 2012, to May 31, 2013, seeks comments on standards under consideration and recommendations for new standards.

ADDRESSES: FSIS invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Patriots Plaza 3, 1400 Independence Avenue SW., Mailstop 3782, Room 8-163A, Washington, DC 20250-3700.

• Hand- or courier-delivered submittals: Deliver to Patriots Plaza 3, 355 E. Street SW., Room 8-163A, Washington, DC 20250-3700.

Instructions: All items submitted by mail or electronic mail must include the Agency name and docket number FSIS-2012-0017. Comments received in response to this docket will be made available for public inspection and posted without change, including any personal information, to http://www.regulations.gov.

Docket: For access to background documents or comments received, go to the FSIS Docket Room at Patriots Plaza 3, 355 E. Street SW., Room 8-164, Washington, DC 20250-3700 between 8 a.m. and 4:30 p.m., Monday through Friday.

Please state that your comments refer to Codex and, if your comments relate to specific Codex committees, please identify those committees in your comments and submit a copy of your comments to the delegate from that particular committee.

FOR FURTHER INFORMATION CONTACT: Karen Stuck, United States Manager for Codex, U.S. Department of Agriculture, Office of Food Safety, Room 4861, South Agriculture Building, 1400 Independence Avenue SW., Washington, DC 20250-3700; phone: (202) 205-7760; fax: (202) 720-3157; email: USCodex@fsis.usda.gov.

For information pertaining to particular committees, the delegate of that committee may be contacted. (A complete list of U.S. delegates and alternate delegates can be found in Attachment 2 of this notice.) Documents pertaining to Codex and specific committee agendas are accessible via the World Wide Web at http://www.codexalimentarius.org/meetings-reports/en/. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of the SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office.

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To obtain copies of the standards listed in attachment 1, please contact the Codex delegate or the U.S. Codex Office.

This notice also solicits public comment on standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. If you would like to access or receive information about specific committees, please visit the Web page or notify the appropriate U.S. delegate or the U.S. Codex Office, Room 4861, South Agriculture Building, 1400 Independence Avenue SW., Washington, DC 20250-3700 (uscodex@fsis.usda.gov).

The information provided in Attachment 1 describes the status of Codex standard-setting activities by the Codex Committees for the time periods from June 1, 2011, to May 31, 2012, and June 1, 2012, to May 31, 2013. Attachment 2 provides a list of U.S. Codex Officials (including U.S. delegates and alternate delegates). A list of forthcoming Codex sessions may be found at: http://www.codexalimentarius.org/meetings-reports/en/.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives and notices. Customers can add or delete subscriptions themselves, and have the option to password protect their accounts.

Done at Washington, DC, on: June 15, 2012.
Karen Stuck,
U.S. Manager for Codex Alimentarius.

Attachment 1

Sanitary and Phytosanitary Activities of Codex

Codex Alimentarius Commission and Executive Committee

The Codex Alimentarius Commission will hold its Thirty Fifth Session July 2-7, 2012, in Rome, Italy. At that time, it will consider standards, codes of practice, and related matters forwarded to the Commission by the general subject committees, commodity committees, and ad hoc Task Forces for adoption as Codex standards and guidance. The Commission will also consider the implementation status of the Codex Strategic Plan, the management of the Trust Fund for the Participation of Developing Countries and Countries in Transition in the Work of the Codex Alimentarius, as well as financial and budgetary issues.

Prior to the Commission meeting, the Executive Committee will meet at its Sixty-seventh Session on June 26-29, 2012. It is composed of the chairperson; vice-chairpersons; seven members elected from the Commission from each of the following geographic regions: Africa, Asia, Europe, Latin America and the Caribbean, Near East, North America, and South-West Pacific; and regional coordinators from the six regional committees. The United States is the elected representative from North America. The Executive Committee will conduct a critical review of the elaboration of Codex standards; consider applications from international non-governmental organizations for observer status in Codex; consider the Codex Strategic Plan and the capacity of the Secretariat; review matters arising from reports of Codex Committees and proposals for new work; and review the Food and Agriculture Organization and the World Health Organisation (FAO/WHO) Trust Fund for Enhanced Participation in Codex.

Responsible Agency: USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to a food producing animal, such as meat or milk producing animals, poultry, fish or bees, whether used for therapeutic, prophylactic or diagnostic purposes, or for modification of physiological functions or behavior.

A Codex Maximum Residue Limit (MRL) for Residues of Veterinary Drugs is the maximum concentration of residue resulting from the use of a veterinary drug (expressed in mg/kg or ug/kg on a fresh weight basis) that is recommended by the Codex Alimentarius Commission to be permitted or recognized as acceptable in or on a food. An MRL is based on the type and amount of residue considered to be without any toxicological hazard for human health as expressed by the Acceptable Daily Intake (ADI) or on the basis of a temporary ADI that utilizes an additional safety factor. The MRL also takes into account other relative public health risks as well as food technological aspects.

When establishing an MRL, consideration is also given to residues that occur in food of plant origin or the environment. Furthermore, the MRL may be reduced to be consistent with good veterinary practices in the use of veterinary drugs and to the extent that practical analytical methods are available.

An Acceptable Daily Intake (ADI) is an estimate by the Joint FAO/WHO Expert Committee on Food Additives (JECFA) of the amount of a veterinary drug, expressed on a body weight basis, which can be ingested daily over a lifetime without appreciable health risk.

The 20th Session of the Committee met in San Juan, Puerto, Rico, on May 7-11, 2012. The reference document is REP12/RVDF. The results of the 20th session of the CCRVDF will be considered by the Commission at the 35th Session in July 2012.

To be considered for adoption:

• Proposed revision of the Risk Analysis Principles Applied by the CCRVDF and the Risk Assessment Policy for Residues of Veterinary Drugs in Foods.

To be considered for final adoption at Step 8 or 5/8:

• Draft MRLs for narasin (cattle tissues) at Step 8.

• Proposed draft MRLs for amoxicillin (cattle, sheep and pig tissues and cattle and sheep milk) and monensin (cattle liver) at Step 5/8.

• Proposed draft Sampling Plans for Residue Control for Aquatic Animal Products and Derived Edible Products of Aquatic Origin at Step 5/8.

The Committee will continue work on the following:

• Proposed draft MRLs for monepantel (sheep tissues).

• Proposed draft Maximum Residue Limits for apramycin (cattle and chicken kidney), derquantel (sheep tissues).

• Proposed draft guidelines on Performance Characteristics for Multi-residue Methods.

• Priority List of Veterinary Drugs for Evaluation or Re-evaluation by JECFA.

• Risk Management Recommendations for Residues of Veterinary Drugs for which no ADI and/or MRLs has been recommended by JECFA due to Specific Human Health Concerns.

• Proposed amendments to the Terms of Reference of the Codex Committee on Residues of Veterinary Drugs in Foods.

• Proposed concern form for the CCRVDF (format and policy procedure for its use).

• Risk Analysis Policy on the Extrapolation of MRLs of Veterinary Drugs to Additional Species and Tissues.

• Draft Priority List of Veterinary Drugs Requiring Evaluation or Re-Evaluation by JECFA.

• Database on countries needs for MRLs.

• Discussion paper on Guidelines on the Establishment of MRLs or other Limits in Honey.

Responsible Agencies: HHS/FDA/CVM; USDA/FSIS.

U.S. Participation: Yes.

Codex Committee on Contaminants in Foods

The Codex Committee on Contaminants in Foods (CCCF) establishes or endorses permitted maximum levels (ML) and, where necessary, revises existing guidelines levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee held its Sixth Session in Maastricht, The Netherlands, from March 26-30, 2012. The relevant document is REP12/CF. The following items are to be considered for adoption by the 35th Session of the Commission in July 2012. To be considered for adoption:

• Risk Analysis Principles Applied by the Codex Committee on Contaminants in Foods.

• Revision of the Code of Practice for Source Directed Measures to Reduce Contamination of Food with Chemicals.

• Revised definition of Contaminant.

To be considered at Step 8:

• Draft Maximum Levels for Melamine in Food (Liquid Infant Formula).

To be considered at Step 5/8:

• Proposed draft Maximum Level for Total Aflatoxins in Dried Figs, including Sampling Plan.

The Committee is continuing work on the following:

• Proposed draft Maximum Levels for Arsenic in Rice.

• Proposed draft Maximum Levels for Deoxynivalenol (DON) in Cereals and Cereal-based Products and Associated Sampling Plans.

• Editorial amendments to the General Standard for Contaminants and Toxins in Food and Feed.

The Committee decided to begin new work on the following items (Pending CAC approval):

• Proposed draft Code of Practice for Weed Control to Prevent and Reduce Pyrolizidine Alkaloid Contamination in Food and Feed.

• Proposed draft revision of the Maximum Levels for Lead in Fruit Juices, Milks and Secondary Milk Products, Infant Formula, Canned Fruits and Vegetables, Fruits and Cereal Grains (except buckwheat, canihua).

The Committee agreed to establish electronic working groups to prepare discussion papers on the following items:

• Proposed draft Annex for Prevention and Reduction of Aflatoxins and Ochratoxin A in Sorghum to the Code of Practice for the Prevention and Reduction of Mycotoxin Contamination in Cereals.

• Proposed draft Code of Practice for the Prevention and Reduction of Ochratoxin A contamination in Cocoa.

• Proposed draft Code of Practice to Reduce the Presence of Hydrocyanic Acid in Cassava.

• Proposed draft Maximum Levels for cassava and cassava products.

• Proposed draft levels for radionuclide's in food.

• The possibility of developing a code of practice for the prevention and reduction of arsenic in rice.

• To identify the gaps in the Code of Practice for Prevention and Reduction of Mycotoxin Contamination in Cereals and the need for a separate code of practice for fumonisins in maize and whether there are any other measures to control fumonisins in maize.

• Discussion paper on management practices to reduce exposure of animals to pyrrolizidine alkaloids; to reduce exposure of food producing animals (livestock and bees) containing plants; and to reduce the presence of PA's in commodities (raw and processed).

• The review of the guideline level for methylmecury in fish and predatory fish.

• Aflatoxins in cereals.

The Committee endorsed:

• The Priority List of Contaminants and Naturally Occurring Toxicants Proposed for Evaluation by JECFA and agreed to convene an inter-session working group immediately prior to its next meeting.

Responsible Agencies: HHS/FDA; USDA/FSIS.

U.S. Participation: Yes.

Codex Committee on Food Additives

The Codex Committee on Food Additives (CCFA) establishes or endorses acceptable maximum levels (MLs) for individual food additives; prepares a priority list of food additives for risk assessment by the Joint FAO/WHO Expert Committee on Food Additives (JECFA); assigns functional classes to individual food additives; recommends specifications of identity and purity for food additives for adoption by the Codex Alimentarius Commission; considers methods of analysis for the determination of additives in food; and considers and elaborates standards or codes of practice for related subjects such as the labeling of food additives when sold as such. The 44th Session of the Committee met in Hangzhou, China, March 12-16, 2012. The relevant document is REP12/FA. Immediately prior to the Plenary Session, there was a 2-day physical Working Group on the General Standard for Food Additives (GSFA) chaired by the United States.

The following items discussed at the Plenary Session will be considered by the 35th Session of the Commission in July 2012. To be considered for adoption:

• Principles for Risk Analysis applied by the Codex Committee on Food Additives.

Title and descriptor of food categories 12.6.1 (Emulsified sauces and dips (e.g., mayonnaise, salad dressing, onion dip) and 16.0 (Prepared foods)) of the GSFA.

To be considered for adoption at Step 8:

• Specific draft food additive provisions of the GSFA.

• Proposed draft revision of the Standard for Food Grade Salt (CODEX STAN 150-1985).

To be considered for adoption at Step 5/8:

• Specific proposed draft food additive provisions of the GSFA.

• Proposed draft amendments to the Codex Guideline on Class Names and International Numbering System for Food Additives (CAC/GL 36-1989).

• Specifications for the identity and purity of food additives arising from the 74th JECFA meeting.

The Committee has recommended work on the following items be revoked:

• Specific food additive provisions of the GSFA.

• Information on the Use of Food Additives in Foods (CAC/MISC 1-1989).

• Listing of Potassium bromate (INS 924a) and Calcium bromate (INS 924b) in the Codex Guideline on Class Names and International Numbering System for Food Additives (CAC/GL 36-1989).

• Specifications for Potassium bromate (INS 924a).

The Committee recommended the work on the following items be discontinued:

• Specific draft and proposed draft food additive provisions of the GSFA.

The Committee will continue working on (with leads named, where appropriate):

• Draft and proposed draft food additives provisions of the GSFA.

• Amendments to the International Numbering System (INS) for food additives.

• Specifications for the identity and purity of food additives arising from the 76th JECFA meeting.

• Information document on the GSFA (Codex Secretariat).

• Information document on food additive provisions in commodity standards (Codex Secretariat).

• Information document on Inventory of Substances used as Processing Aids (IPA), updated list (New Zealand).

The Committee agreed to establish electronic Working Groups, with the named lead countries, on:

• Revision of the Guidelines for the Evaluation of Food Additive Intakes (CAC/GL 3-1989) (Brazil).

• Application of the decision-tree on the alignment of the food additive provisions of commodity standards and relevant provisions of the GSFA (Australia).

• The GSFA (United States), including:

○ Recommendations for the adoption, discontinuation and revocation of aluminum-containing food additives.

○ Recommendations for the implementation of the horizontal approach to the provisions in Tables 1 and 2 for food additives listed in Table 3 with the technological function “acidity regulator”.

○ Elaboration of the horizontal approach for provisions in Table 1 and 2 for food additives listed in Table 3 with the technological function “emulsifier, stabilizer and thickener”.

• Proposed prioritized list of colors for re-evaluation by JECFA (Canada).

• Criteria for entry of substances in the database on processing aids (New Zealand & China).

• Proposals for changes and additions to the INS (Iran).

The Committee also agreed to hold a physical Working Group on the GSFA immediately preceding the 45th session of CCFA. The United States is preparing the following proposals that will be considered at the physical Working Group:

• Application of Note 188 (“Not to exceed the maximum use level for acesulfame potassium (INS 960) singly or in combination with aspartame-acesulfame salt (INS 962).” to provisions for acesulfame potassium and Note 191 (“Not to exceed the maximum use level for aspartame (INS 961) singly or in combination with aspartame-acesulfame salt (INS 962).”) to provisions for aspartame.

• Provisions for nisin in the sub-categories of food category 08.0 (Meat and meat products, including game).

• New and revised food additive provisions of the GSFA.

• Food additive provisions in food category 16.0 (Prepared foods).

• Two provisions for aspartame-acesulfame salt.

Responsible Agency: HHS/FDA.

U.S. Participation: Yes.

Codex Committee on Pesticide Residues

The Codex Committee on Pesticide Residues (CCPR) is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues and; establishing maximum limits for environmental and industrial contaminants showing chemical or other similarity to pesticides in specific food items or groups of food.

The 44th Session of the Committee met in Shanghai, China, on April 23-28, 2012. The relevant document is REP12/PR. The following items will be considered by the Commission at its 35th Session in July 2012. To be considered for adoption at Step 8:

• Draft Maximum Residue Limits (MRLs) for Pesticides.

• Draft revision of the Classification of Food and Animal Feed: Fruit Commodity Groups.

• Draft Principles and Guidance for the Selection of Representative Commodities for the Extrapolation of Maximum Residue Limits for Pesticides to Commodity Groups (Including Table 1: Examples of the Selection of Representative Commodities Fruit Commodity Groups).

To be considered at Step 5/8:

• Proposed draft MRLs for Pesticides.

The Committee will continue working on:

• Draft MRLs for Pesticides.

• Draft revision of the Classification of Foods and Animal Feeds: Herbs-Edible Flowers.

• Proposed draft revision of the Classification of Food and Animal Feed: Selected Vegetable Commodity Groups.

• Proposed draft MRLs for pesticides.

• Proposed draft MRLs for pesticides: Pilot project for JMPR recommendation of MRLs before national governments or other regional registration authorities for a global joint review chemical.

• JMPR resource issues in the provision of scientific advice to CCPR.

• Assessment of MRLs in Tea.

The Committee Agreed to the following Electronic Working Groups:

• Proposed draft revision of the Classification of Food and Animal Feed: Other commodity groups.

• Proposed draft Table 2: Examples of the selection of Representative Commodities—Selected Vegetable Groups (Draft Principles and Guidance for Selection of Representative Commodities for the Extrapolation of Maximum Residue Limits for Pesticides to Commodity Groups).

• Establishment of Codex Priority Lists of Pesticides (Evaluation of New Pesticides and Pesticides under Periodic Re-evaluation).

• Application of proportionality in selecting data for MRL estimation.

• Revision of the Risk Analysis Principles applied by the Codex Committee on Pesticide Residues.

• Discussion paper on further development of the criteria to facilitate the establishment of maximum residue limits for pesticides for minor crops/specialty crops including other related matters.

• Discussion paper on the development of performance criteria for suitability assessment of methods of analysis for pesticide residues.

The following items have been recommended for Revocation:

• Codex Maximum Residue Limits for Pesticides.

• Analysis of Pesticide Residues: Recommended Methods.

Responsible Agencies: EPA; USDA/AMS.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as quality assurance systems for laboratories.

The 33rd Session of the Committee met in Budapest, Hungary, March 5-9, 2012. The relevant document is REP12/MAS. The following will be sent to the CAC for inclusion in the Procedural Manual:

• The definition of “proprietary method” and the criteria to be added to the Principles for the Establishment of Codex Methods of Analysis.

To be considered for adoption at Step 5:

• The proposed draft Principles for Use of Sampling and Testing in International Food Trade (section on Principles).

The Committee will continue working on:

• The proposed draft Principles for the Use of Sampling and Testing in International Food Trade (except for the section on Principles).

Responsible Agencies: HHS/FDA; USDA/GIPSA.

U.S. Participation: Yes.

Codex Committee on Food Import and Export Inspection and Certification Systems

The Codex Committee on Food Import and Export Inspection and Certification Systems is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The 19th Session of the Committee met in Cairns, Australia, October 17-21, 2011. The relevant document is REP12/FICS. The following items will be considered by the 35th Session of the Commission in July 2012. To be considered for adoption at Step 5:

• Proposed draft Principles and Guidelines for National Food Control Systems.

The Committee is continuing work on:

• Proposed draft Principles and Guidelines for National Food Control Systems.

• Discussion paper on the burden of documentation required by multiple questionnaires directed at exporting countries.

• Discussion paper on monitoring regulatory performance of national food control systems.

• Discussion paper on the need for further guidance on food safety emergencies and on proposed changes to CCFICS texts on emergencies and rejections as they apply to animal feed.

Responsible Agencies: HHS/FDA; USDA/FSIS.

U.S. Participation: Yes.

Codex Committee on Food Labelling

The Codex Committee on Food Labelling drafts provisions on labeling applicable to all foods; considers, amends, and endorses draft specific provisions on labeling prepared by the Codex Committees drafting standards, codes of practice, and guidelines; and studies specific labeling problems assigned by the Codex Alimentarius Commission. The Committee also studies problems associated with the advertisement of food with particular reference to claims and misleading descriptions.

The Committee held its 40th Session in Ottawa, Ontario, Canada, on May 15-18, 2012. The reference document is REP 12/FL. The following items will be considered by the 35th Session of the Commission in July 2012. Items to be considered at Step 8:

• Draft definition for nutrient reference values for inclusion in the Guidelines for Nutrition Labelling (CAC/GL 2-1985).

• Use of ethylene for ripening of fruit for inclusion into Guidelines for the Production, Processing, Labelling and Marketing of Organically Produced Foods (CAC/GL 32-1999).

Items to be considered at Step 5:

• New Section 7.2 Non-Addition of Sodium Salts in the proposed draft revision of the Guidelines for Use of Nutrition and Health Claims (CAC/GL 23-1997).

Items to be considered at step ⅝:

• New Section 7.1 Non-Addition of Sugars in the proposed draft revision of the Guidelines for Use of Nutrition and Health Claims (CAC/GL 23-1997).

• New Section 7.3 Additional Conditions for Nutrient Content Claims and Comparative Claims (except for Section 7.2 Non-Addition of Sodium Salts at Step 5).

• Amend existing Sections 6.3 and 6.4 of the Guidelines for Use of Nutrition and Health Claims (CAC/GL 23-1997).

• New Section 6.5 for “light” in the proposed draft revision of the Guidelines for Use of Nutrition and Health Claims (CAC/GL 23-1997).

• Amend existing sections 3.1.1 and 3.1.2 to mandatory nutrition labeling for nutrient declaration for all prepackaged foods in the proposed draft amendments to the Guidelines on Nutrition Labelling (CAC/GL 2-1985).

• Use of ethylene as flowering agent for pineapples and for degreening of citrus for the purpose of fruit fly prevention for inclusion into Guidelines for the Production, Processing, Labelling and Marketing of Organically Produced Foods (CAC/GL 32-1999).

• Spinosad, Copper Octanoate, Potassium Bicarbonate for inclusion into Guidelines for the Production, Processing, Labelling and Marketing of Organically Produced Foods (CAC/GL 32-1999).

The Committee is continuing work on:

• Use of ethylene as a sprouting inhibitor for onions and potatoes for inclusion into Guidelines for the Production, Processing, Labelling and Marketing of Organically Produced Foods.

• Organic Aquaculture for inclusion into Guidelines for the Production, Processing, Labelling and Marketing of Organically Produced Foods.

Responsible Agencies: HHS/FDA; USDA/FSIS.

U.S. Participation: Yes.

Codex Committee on Food Hygiene

The Codex Committee on Food Hygiene (CCFH):

• Develops basic provisions on food hygiene applicable to all food or to specific food types;

• Considers and amends or endorses provisions on food hygiene contained in Codex commodity standards and codes of practice developed by other Codex commodity committees;

• Considers specific food hygiene problems assigned to it by the Commission;

• Suggests and prioritizes areas where there is a need for microbiological risk assessment at the international level and develops questions to be addressed by the risk assessors; and

• Considers microbiological risk management matters in relation to food hygiene and in relation to FAO/WHO risk assessments.

The Committee held its 43rd Session in Miami, Florida December 5-9, 2011. The reference document is REP 12/FH. The following items will be considered by the Commission at its 35th Session in July 2012. To be considered for adoption:

• Proposed amendment to the Principles and Guidelines for the Conduct of Microbiological Risk Assessment.

• Proposed revision to the Risk Analysis Principles and Procedures Applied by the Codex Committee on Food Hygiene.

To be considered for adoption at Step 5/8:

• Proposed draft Guidelines on the Application of General Principles of Food Hygiene to the Control of Viruses in Food.

• Proposed draft Annex on Melons to the Code of Hygienic Practice for Fresh Fruits and Vegetables.

The Committee will continue working on:

• Proposed revision of Principles for the Establishment and Application of Microbiological Criteria for Foods.

• Proposed draft Guidelines for Control of Specific Zoonotic Parasites in Meat: Trichinella spiralis and Cysticercus bovis.

The Committee agreed to the development of discussion papers on the following topics:

• Code of hygienic practice for low moisture food.

• New work and periodic review/revision of codes of hygienic practice.

The Committee agreed to begin new work on the following, pending approval by the CAC:

• Revision of the Code of Hygienic Practice for Spices and Dried Aromatic Plants.

• Annex on Berries to the Code of Hygienic Practice for Fresh Fruits and Vegetables.

Responsible Agencies: HHS/FDA; USDA/FSIS

U.S. Participation: Yes.

Codex Committee on Fresh Fruits and Vegetables

The Codex Committee on Fresh Fruits and Vegetables is responsible for elaborating worldwide standards and codes of practice as may be appropriate for fresh fruits and vegetables; for consulting with the UNECE Working Party on Agricultural Quality Standards in the elaboration of worldwide standards and codes of practice, with particular regard to ensuring that there is no duplication of standards or codes of practice and that they follow the same broad format; and for consulting, as necessary, with other international organizations which are active in the area of standardization of fresh fruits and vegetables.

The Committee will hold its 17th Session in Mexico City, Mexico, on September 3-7, 2012.

The Committee will work on the following items:

• Draft Standard for Avocado.

• Proposed draft Standard for Pomegranate.

• Proposed draft Standard for Golden Passion Fruit.

• Proposed layout for Codex Standards for Fresh Fruits and Vegetables (including matters relating to point of application and quality tolerances at import/export control points).

• Proposals for new work on Codex Standards for Fresh Fruits and Vegetables.

Responsible Agencies: USDA/AMS; HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee held its 33rd Session in Bad Soden am Taunus, Germany, on November 14-18, 2011. The reference document is REP 12/NSFDU. The following items will be considered by the Commission at its 35th Session in July 2012. To be considered for final adoption at Step 5/8:

• Proposed draft Nutrient Reference Values (NRVs). To be considered for adoption at Step 5:

• Proposed draft revision of the Guidelines on Formulated Supplementary Foods for Older Infants and Young Children.

The Committee will continue working on:

• General Principles for Establishing Nutrient Reference Values for Nutrients Associated with Risk of Diet-Related Non-communicable Diseases for General Population.

• Proposed draft Additional or Revised Nutrient Reference Values for Labeling Purposes in the Codex Guidelines on Nutrition Labeling.

• Proposed draft revision of the Codex General Principles for the Addition of Essential Nutrients to Foods.

• Proposed draft amendment of the Standard for Processed Cereal Based Foods for Infants and Young Children to include a New Part B for Underweight Children.

• Proposal to review the Codex Standard for Follow-up Formula.

• Proposed draft revision of the list of food additives.

Responsible Agencies: HHS/FDA; USDA/ARS.

U.S. Participation: Yes.

Codex Committee on Fats and Oils

The Codex Committee on Fats and Oils (CCFO) is responsible for elaborating worldwide standards for fats and oils of animal, vegetable, and marine origin, including margarine and olive oil.

The Committee will hold its 23rd Session in Malaysia, on February 25-March 1, 2013. The Committee is currently working on the following items:

• Development of a Standard for Fish Oils.

• Proposed draft amendment to the Standard for Named Vegetable Oils: Rice Bran Oil.

The Committee is also working in electronic Working Groups on the following discussion papers to be presented at the next Session in 2013:

• New work proposal to add High Oleic Acid Palm Oil to the Standard for Named Vegetable Oils.

• New work proposal to amend the Standard for Named Vegetable Oils: Sunflower Seed Oils.

• New work proposal to include High Oleic Soybean Oil in the Standard for Named Vegetable Oils.

• New work to amend the campesterol levels listed in the Codex Standard for Olive Oil.

Responsible Agencies: HHS/FDA; USDA/ARS.

U.S. Participation: Yes.

Codex Committee on Processed Fruits and Vegetables

The Codex Committee on Processed Fruits and Vegetables (CCPFV) is responsible for elaborating worldwide standards and related text for all types of processed fruits and vegetables including but not limited to canned, dried and frozen products as well as fruit and vegetable juices and nectars.

The 26th Session of the CCPFV will meet in Montego Bay, Jamaica, on October 15-19, 2012. The Committee will work on the following items:

• Matters referred to the Committee by the Codex Alimentarius Commission and Codex committees.

• Proposed draft Codex Standard for Table Olives.

• Proposed draft Codex Standard for Certain Canned Fruits (revision of remaining individual standards for canned fruits) (Step 4).

• Proposed draft Codex Standard for Certain Quick Frozen Vegetables (revision of individual standards for quick frozen vegetables) (Step 4).

• Proposed draft Sampling Plans including Metrological Provisions for Controlling Minimum Drained Weight of Canned Fruits and Vegetables in Packing Media (Step 4).

• Food Additive Provisions for Processed Fruits and Vegetables: Additional provisions for inclusion in selected adopted and under development standards.

• Matters relating to selected Codex standards for processed fruits and vegetables.

• Discussion paper on the possible extension of the territorial application of the Codex Regional Standard for Ginseng Products.

• Discussion paper on the development of a Codex Standard for Chemically Flavored Water-based Drinks.

• Status of work on the revision of Codex standards for processed fruits and vegetables.

Responsible Agencies: USDA/AMS; HHS/FDA.

U.S. Participation: Yes.

Codex Committee on Sugars

The Codex Committee on Sugars is responsible for elaborating worldwide standards for all types of sugar and sugar products. The Committee had been adjourned sine die, but became active again following the request from Colombia at the 34th Session of the Codex Alimentarius Commission (2011).

The Committee has established an electronic Working Group (led by Colombia) to work on the following item:

• Standard for Panela

Responsible Agencies: HHS/FDA.

U.S. Participation: Yes.

Certain Codex Commodity Committees

Several Codex Alimentarius Commodity Committees have adjourned sine die. The following Committees fall into this category:

• Cereals, Pulses and Legumes

Responsible Agency: HHS/FDA.

U.S. Participation: Yes.

• Cocoa Products and Chocolate

Responsible Agency: HHS/FDA.

U.S. Participation: Yes.

• Meat Hygiene

Responsible Agency: USDA/FSIS.

U.S. Participation: Yes.

• Milk and Milk Products

Responsible Agencies: USDA/AMS; HHS/FDA.

U.S. Participation: Yes.

• Natural Mineral Waters

Responsible Agency: HHS/FDA.

U.S. Participation: Yes.

• Vegetable Proteins

Responsible Agency: USDA/ARS.

U.S. Participation: Yes.

Ad hoc Intergovernmental Task Force on Animal Feeding

The objective of the ad hoc Intergovernmental Task Force on Animal Feeding (TFAF) is to ensure the safety and quality of foods of animal origin. Therefore, the Task Force develops guidelines or standards, as appropriate, on Good Animal Feeding practices. The Task Force was re-activated in 2011 for the purpose of: (a) Developing guidelines, intended for governments, on how to apply the existing Codex risk assessment methodologies to the various types of hazards related to contaminants/residues in feed ingredients, such as feed additives used in feeding stuffs for food producing animals, and using specific science-based risk assessment criteria to apply to feed contaminants/residues; and (b) developing a prioritized list of hazards in feed ingredients and feed additives for governmental use.

The Committee held its 6th session in Berne, Switzerland, on February 20-24, 2012. The relevant document is REP 12/AF. The following items will be considered at the 35th session of the Codex Alimentarius Commission in July 2012. To be considered at Step 5:

• Proposed draft Guidelines on the Application of Risk Assessment for Feed.

The Committee will continue working on:

• Proposed draft Guidance for Use by Governments in Prioritizing the National Feed Hazards (former Prioritized List of Hazard in Feed)

Responsible Agencies: HHS/FDA; USDA/FSIS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to it by the Commission; and promote the use of Codex standards and related texts by members.

There are six regional coordinating committees:

Coordinating Committee for Africa

Coordinating Committee for Asia

Coordinating Committee for Europe

Coordinating Committee for Latin America and the Caribbean

Coordinating Committee for the Near East

Coordinating Committee for North America and the Southwest

Coordinating Committee for Africa

The Committee (CCAfrica) will hold its 20th session in Cameroon, from January 29-February 1, 2013.

Responsible Agency: USDA/FSIS.

U.S. Participation: Yes (as observer).

Coordinating Committee for Asia

The Committee (CCAsia) will hold its 18th session in Tokyo, Japan, from November 5-9, 2012.

Responsible Agency: USDA/FSIS.

U.S. Participation: Yes (as observer).

Coordinating Committee for Europe

The Committee (CCEurope) will hold its 28th session in Batumi, Georgia, from September 25-28, 2012.

Responsible Agency: USDA/FSIS.

U.S. Participation: Yes (as observer).

Coordinating Committee for Latin America and the Caribbean

The Coordinating Committee for Latin America and the Caribbean (CCLAC) will hold its 18th session in Costa Rica, from November 19-23, 2012.

Responsible Agency: USDA/FSIS.

U.S. Participation: Yes (as observer).

Coordinating Committee for the Near East

The Committee (CCNEA) will hold its 7th session in Beirut, Lebanon, from January 21-25, 2013.

Responsible Agency: USDA/FSIS.

U.S. Participation: Yes (as observer).

Coordinating Committee for North America and the Southwest Pacific (CCNASWP)

The Committee (CCNASWP) will hold its 12th Session in Madang, Papua New Guinea, from September 19-22, 2012.

Responsible Agency: USDA/FSIS.

U.S. Participation: Yes.

Contact:

Karen Stuck, United States Manager for Codex, U.S. Department of Agriculture, Office of Food Safety, Room 4861, South Agriculture Building, 1400 Independence Avenue SW., Washington, DC 20250-3700, Phone: (202) 205-7760, Fax: (202) 720-3157, Email: karen.stuck@osec.usda.gov.

Attachment 2

U.S. Codex Alimentarius Officials

Codex Chairpersons From the United States

Codex Committee on Food Hygiene

Emilio Esteban, DVM, MBA, MPVM, Ph.D., Executive Associate for Laboratory Services, Office of Public Health Science, Food Safety and Inspection Service, U.S. Department of Agriculture, 950 College Station Road, Athens, GA 30605, Phone: (706) 546-3429, Fax: (706) 546-3428, Email: emilio.esteban@fsis.usda.gov.

Codex Committee on Processed Fruits and Vegetables

Richard Boyd, Chief, Defense Contract Inspection Branch, Processed Products Division, Fruit and Vegetable Program, Agricultural Marketing Service, U.S. Department of Agriculture, 1400 Independence Avenue SW., Mail Stop 0247, Room 0726-South Building, Washington, DC 20250, Phone: (202) 720-5021, Fax: (202) 690-1527, Email: richard.boyd@ams.usda.gov.

Codex Committee on Residues of Veterinary Drugs in Foods

Steven D. Vaughn, DVM, Director, Office of New Animal Drug Evaluation, Center for Veterinary Medicine, U.S. Food and Drug Administration, MPN 1, Room 236, 7520 Standish Place, Rockville, Maryland 20855, Phone: (240) 276-8300, Fax: (240) 276-8242, Email: Steven.Vaughn@fda.hhs.gov.

Listing of U.S. Delegates and Alternates Worldwide General Subject Codex Committees

Codex Committee on Contaminants in Foods

(Host Government—the Netherlands)

U.S. Delegate

Nega Beru, Ph.D., Director, Office of Food Safety (HFS-300), Center for Food Safety and Applied Nutrition, U.S. Food and Drug Administration, 5100 Paint Branch Parkway, College Park, MD 20740, Phone: (240) 402-1700, Fax: (301) 436-2651, Email: Nega.Beru@fda.hhs.gov.

Alternate Delegate

Kerry Dearfield, Ph.D., Scientific Advisor for Risk Assessment, Office of Public Health Science, Food Safety and Inspection Service, U.S. Department of Agriculture, Room 9-195, PP 3 (Mail Stop 3766), 1400 Independence Avenue SW., Washington, DC 20250, Phone: (202) 690-6451, Fax: (202) 690-6337, Email: Kerry.Dearfield@fsis.usda.gov.

Codex Committee on Food Additives

(Host Government—China)

U.S. Delegate

Dennis M. Keefe, Ph.D., Office of Premarket Approval, Center for Food Safety and Applied Nutrition, U.S. Food and Drug Administration (HFS-200), Harvey W. Wiley Federal Building, 5100 Paint Branch Parkway, College Park, MD 20740-3835, Phone: (240) 402-1200, Fax: (301) 436-2972, Email: dennis.keefe@fda.hhs.gov.

Alternate Delegate

Susan E. Carberry, Ph.D., Supervisory Chemist, Division of Petition Review, Office of Food Additive Safety (HFS-265), Center for Food Safety and Applied Nutrition, U.S. Food and Drug Administration, 5100 Paint Branch Parkway, College Park, MD 20740, Phone: (240) 402-1269, Fax: (301) 436-2972, Email: Susan.Carberry@fda.hhs.gov.

Codex Committee on Food Hygiene

(Host Government—United States)

U.S. Delegate

Jenny Scott, Senior Advisor, Office of Food Safety, Center for Food Safety and Applied Nutrition, U.S. Food and Drug Administration, 5100 Paint Branch Parkway, HFS-300, Room 3B-014, College Park, MD 20740-3835, Phone: (240) 402-2166, Fax: (202) 436-2632, Email: Jenny.Scott@fda.hhs.gov.

Alternate Delegates

Kerry Dearfield, Ph.D., Scientific Advisor for Risk Assessment, Office of Public Health Science, Food Safety and Inspection Service, U.S. Department of Agriculture, Room 9-195, PP 3 (Mail Stop 3766), 1400 Independence Avenue SW., Washington, DC 20250, Phone: (202) 690-6451, Fax: (202) 690-6337, Email: Kerry.Dearfield@fsis.usda.gov.

Dr. Joyce Saltsman, Interdisciplinary Scientist, Office of Food Safety (HFS-317), Center for Food Safety and Applied Nutrition, U.S. Food and Drug Administration, 5100 Paint Branch Parkway, College Park, MD 20740, Phone: (240) 402-1641, Fax: (301) 436-2632, Email: Joyce.Saltsman@fda.hhs.gov.

Codex Committee on Food Import and Export Inspection and Certification Systems

(Host Government—Australia)

U.S. Delegate

Mary Stanley, Director, International Policy Division, Office of Policy and Program Development, Food Safety and Inspection Service, U.S. Department of Agriculture, Room 2925, South Agriculture Building, 1400 Independence Avenue SW., Washington, DC 20250, Phone: (202) 720-0287, Fax: (202) 720-4929, Email: Mary.Stanley@fsis.usda.gov.

Alternate Delegate

H. Michael Wehr, Senior Advisor and Codex Program Coordinator, International Affairs Staff, Center for Food Safety and Applied Nutrition, U.S. Food and Drug Administration, 5100 Paint Branch Parkway (HFS-550), College Park, MD 20740, Phone: (240) 402-1724, Fax: (301) 436-2618, Email: Michael.wehr@fda.hhs.gov.

Codex Committee on Food Labeling

(Host Government—Canada)

U.S. Delegate

Barbara O. Schneeman, Ph.D., Director, Office of Nutrition, Labeling, and Dietary Supplements, Center for Food Safety and Applied Nutrition, U.S. Food and Drug Administration, 5100 Paint Branch Parkway (HFS-800), College Park, MD 20740, Phone: (240) 402-2373, Fax: (301) 436-2636, Email: barbara.schneeman@fda.hhs.gov.

Alternate Delegate

Jeffrey Canavan, Deputy Director, Labeling and Program Delivery Division, Food Safety and Inspection Service, U.S. Department of Agriculture, 1400 Independence Avenue SW.—Stop 5273, Patriots Plaza 3, 8th Floor-161A, Washington, DC 20250, Phone: (301) 504-0860, Fax: (202) 245-4792, Email: jeff.canavan@fsis.usda.gov.

Codex Committee on General Principles

(Host Government—France)

U.S. Delegate

Note: A member of the Steering Committee heads the delegation to meetings of the General Principles Committee.

Codex Committee on Methods of Analysis and Sampling

(Host Government—Hungary)

U.S. Delegate

Gregory O. Noonan, Ph.D., Research Chemist, Division of Analytical Chemistry, Center for Food Safety and Applied Nutrition, Food and Drug Administration, 5100 Paint Branch Parkway, College Park, MD 20740, Phone: 240-402-2250, Fax: 301-436-2634, Email: Gregory.Noonan@fda.hhs.gov.

Alternate Delegate

David B. Funk, Deputy Director, Chief Scientist, GIPSA, U.S. Department of Agriculture, Grain Inspection, Packers and Stockyards Administration, Technology & Science Division, 10383 Ambassador Dr., Kansas City, MO 64153, Phone: (816) 891-0473, Fax: (816) 891-8070, Email: David.b.funk@usda.gov.

Codex Committee on Nutrition and Food for Special Dietary Uses

(Host Government—Germany)

U.S. Delegate

Barbara O. Schneeman, Ph.D., Director, Office of Nutrition, Labeling and Dietary Supplements, Center for Food Safety and Applied Nutrition, U.S. Food and Drug Administration, 5100 Paint Branch Highway (HFS-800), College Park, MD 20740, Phone: (240) 402-2373, Fax: (301) 436-2636, Email: barbara.schneeman@fda.hhs.gov.

Alternate Delegate

Allison Yates, Ph.D., Associate Director, Beltsville Human Nutrition Research Center, Agricultural Research Service, U.S. Department of Agriculture, 10300 Baltimore Avenue, Bldg 307C, Room 117, Beltsville, MD 20705, Phone: (301) 504-8157, Fax: (301) 504-9381, Email: Allison.Yates@ars.usda.gov.

Codex Committee on Pesticide Residues

(Host Government—China)

U.S. Delegate

Lois Rossi, Director of Registration Division, Office of Pesticide Programs, U.S. Environmental Protection Agency, Ariel Rios Building, 1200 Pennsylvania Avenue NW., Washington, DC 20460, Phone: (703) 305-5447, Fax: (703) 305-6920, Email: rossi.lois@epa.gov.

Alternate Delegate

Dr. Pat Basu, Senior Leader, Chemistry, Toxicology & Related Sciences, Office of Public Health Science, Food Safety and Inspection Service, U.S. Department of Agriculture, Patriots Plaza III, Room 9-205, 1400 Independence Ave SW., Washington, DC 20250-3766, Phone: (202) 690-6558, Fax: (202) 690-2364, Email: Pat.Basu@fsis.usda.gov.

Codex Committee on Residues of Veterinary Drugs in Foods

(Host Government—United States)

U.S. Delegate

Dr. Kevin Greenlees, Senior Advisor for Science & Policy, Office of New Animal Drug Evaluation, HFV-100, Center for Veterinary Medicine, U.S. Food and Drug Administration, 7520 Standish Place, Rockville, MD 20855, Phone: (240) 276-8214, Fax: (240) 276-9538, Email: Kevin.Greenlees@fda.hhs.gov.

Alternate Delegate

Dr. Charles Pixley, Director, Laboratory Quality Assurance Division, Office of Public Health Science, Food Safety and Inspection Service, U.S. Department of Agriculture, 950 College Station Road, Athens, GA 30605, Phone: (706) 546-3559, Fax: (706) 546-3452, Email: charles.pixley@fsis.usda.gov.

Worldwide Commodity Codex Committees (Active)

Codex Committee on Fats and Oils

(Host Government—Malaysia)

U.S. Delegate

Martin J. Stutsman, J.D., Office of Food Safety (HFS-317), Center for Food Safety and Applied Nutrition, U.S. Food and Drug Administration, 5100 Paint Branch Parkway, College Park, MD 20740-3835, Phone: (240) 402-1642, Fax: (301) 436-2651, Email: Martin.Stutsman@fda.hhs.gov.

Alternate Delegate

Robert A. Moreau, Ph.D., Research Chemist, Eastern Regional Research Center, Agricultural Research Service, U.S. Department of Agriculture, 600 East Mermaid Lane, Wyndmoor, PA 19038, Phone: (215) 233-6428, Fax: (215) 233-6406, Email: robert.moreau@ars.usda.gov.

Codex Committee on Fish and Fishery Products

(Host Government—Norway)

Delegates

Timothy Hansen, Director, Seafood Inspection Program, National Marine Fisheries Services, National Oceanic and Atmospheric Administration, 1315 East West Highway SSMC#3, Silver Spring, MD 20910, Phone: (301) 713-2355, Fax: (301) 713-1081, Email: Timothy.Hansen@noaa.gov.

Dr. William Jones, Director, Division of Seafood Safety, Office of Food Safety (HFS-325), U.S. Food and Drug Administration, 5100 Paint Branch Parkway, College Park, MD 20740, Phone: (240) 402-2300, Fax: (301) 436-2601, Email: William.Jones@fda.hhs.gov.

Codex Committee on Fresh Fruits and Vegetables

(Host Government—Mexico)

U.S. Delegate

Dorian LaFond, International Standards Coordinator, Fruit and Vegetables Division, Agricultural Marketing Service, U.S. Department of Agriculture, Stop 0235-Room 2086, South Agriculture Building, 1400 Independence Avenue SW., Washington, DC 20250-0235, Phone: (202) 690-4944, Fax: (202) 720-0016, Email: dorian.lafond@usda.gov.

Alternate Delegate

Dongmin (Don) Mu, Product Evaluation and Labeling Team, Food Labeling and Standards Staff, Office of Nutrition, Labeling and Dietary Supplements, U.S. Food and Drug Administration, 5100 Paint Branch Parkway, College Park, MD 20740, Phone: (240) 402-1775, Fax: (301) 436-2636, Email: dongmin.mu@fda.hhs.gov.

Codex Committee on Processed Fruits and Vegetables

(Host Government—United States)

U.S. Delegate

Dorian LaFond, International Standards Coordinator, Fruit and Vegetable Division, Agricultural Marketing Service, U.S. Department of Agriculture, Stop-0235, Room 2086, South Agriculture Building, 1400 Independence Avenue SW., Washington, DC 20250-0235, Phone: (202) 690-4944, Fax: (202) 720-0016, Email: dorian.lafond@usda.gov.

Alternate Delegate

Paul South, Ph.D., Office of Food Safety, Center for Food Safety and Applied Nutrition, U.S. Food and Drug Administration, 5100 Paint Branch Parkway, College Park, MD 20740, Phone: (240) 402-1640, Fax: (301) 436-2561, Email: paul.south@fda.hhs.gov.

Codex Committee on Sugars

(Host Government—United Kingdom)

U.S. Delegate

Martin J. Stutsman, J.D., Office of Food Safety (HFS-317), Center for Food Safety and Applied Nutrition, U.S. Food and Drug Administration, 5100 Paint Branch Parkway, College Park, MD 20740-3835, Phone: (240) 402-1642, Fax: (301) 436-2651, Email: Martin.Stutsman@fda.hhs.gov.

Worldwide Commodity Codex Committees (Adjourned)

Codex Committee on Cocoa Products and Chocolate (Adjourned Sine die)

(Host Government—Switzerland)

U.S. Delegate

Michelle Smith, Ph.D., Food Technologist, Office of Plant and Dairy Foods and Beverages, Center for Food Safety and Applied Nutrition, U.S. Food and Drug Administration (HFS-306), Harvey W. Wiley Federal Building, 5100 Paint Branch Parkway, College Park, MD 20740-3835, Phone: (240) 402-2024, Fax: (301) 436-2651, Email: michelle.smith@fda.hhs.gov.

Cereals, Pulses and Legumes (Adjourned Sine die)

(Host Government—United States)

Delegate

Henry Kim, Ph.D., Supervisory Chemist, Division of Plant Product Safety, Office of Plant and Dairy Foods, Center for Food Safety and Applied Nutrition, U.S. Food and Drug Administration, 5100 Paint Branch Parkway, College Park, MD 20740, Phone: (240) 402-2023, Fax: (301) 436-2651, henry.kim@fda.hhs.gov.

Codex Committee on Meat Hygiene (Adjourned Sine die)

(Host Government—New Zealand)

U.S. Delegate

VACANT

Codex Committee on Milk and Milk Products (Adjourned Sine die)

(Host Government—New Zealand)

U.S. Delegate

Duane Spomer, Chief, Safety, Security and Emergency Preparedness Branch, Agricultural Marketing Service, U.S. Department of Agriculture, Room 2095, South Agriculture Building, 1400 Independence Avenue SW., Washington, DC 20250, Phone: (202) 720-1861, Fax: (202) 205-5772, Email: duane.spomer@ams.usda.gov.

Alternate Delegate

John F. Sheehan, Director, Division of Plant and Dairy Food Safety, Office of Food Safety, Center for Food Safety and Applied Nutrition, U.S. Food and Drug Administration (HFS-3 15), Harvey W. Wiley Federal Building, 5100 Paint Branch Parkway, College Park, MD 20740, Phone: (240) 402-1488, Fax: (301) 436-2632, Email: john.sheehan@fda.hhs.gov

Codex Committee on Natural Mineral Waters

(Host Government—Switzerland)

U.S. Delegate

Lauren Posnick Robin, Sc.D., Review Chemist, Office of Food Safety, Center for Food Safety and Applied Nutrition, U.S. Food and Drug Administration, Harvey W. Wiley Federal Building, 5100 Paint Branch Parkway, College Park, MD 20740-3835, Phone: (240) 402-1639, Fax: (301) 301-436-2632, Email: Lauren.Robin@fda.hhs.gov.

Codex Committee on Vegetable Proteins (Adjourned Sine die)

(Host Government—Canada)

U.S. Delegate

Vacant

AdHoc Intergovernmental Task Forces

Ad Hoc Intergovernmental Task Force on Animal Feeding

(Host government—Switzerland)

Delegate

Daniel G. McChesney, Ph.D., Director, Office of Surveillance & Compliance, Center for Veterinary Medicine, U.S. Food and Drug Administration, 7529 Standish Place, Rockville, MD 20855, Phone: (240) 453-6830, Fax: (240) 453-6880, Email: Daniel.McChesney@fda.hhs.gov.

Alternate

Dr. Patty Bennett, Branch Chief, Risk Assessment Division, Office of Public Health Science, Food Safety and Inspection Service, U.S. Department of Agriculture, 901 Aerospace Center, Washington, DC 20250, Phone: (202) 690-6189, Email: patty.bennett@fsis.usda.gov.

[FR Doc. 2012-15002 Filed 6-15-12; 4:15 pm]

BILLING CODE 3410-DM-P